DEPARTMENT OF AGRICULTURE

Agricultural Marketing Service

7 CFR Parts 51 and 52

[Doc. No. AMS-LRRS-19-0099; SC-19-331]

Subpart Nomenclature Change; Technical Amendment

AGENCY: Agricultural Marketing Service, USDA.

ACTION: Final rule; technical amendment.

SUMMARY: This document makes nomenclature changes to subpart headings in the Agricultural Marketing Service's regulations to bring the language into conformance with the Office of the Federal Register (OFR) requirements.

DATES: Effective May 7, 2020.

ADDRESSES: Specialty Crops Inspection Division, Specialty Crops Program, AMS, USDA, 1400 Independence Avenue SW, Stop 0240, Washington, DC 20250-0240.

FOR FURTHER INFORMATION CONTACT: Contact Brian E. Griffin, Specialty Crops Inspection Division, Specialty Crops Program, Agricultural Marketing Service, U.S. Department of Agriculture, 1400 Independence Avenue SW, Room 1536, South Building; Stop 0240, Washington, DC 20250; telephone (202) 720-5021; fax (202) 690-1527; or, email brian.griffin@usda.gov.

SUPPLEMENTARY INFORMATION: This action, pursuant to 5 U.S.C. 553, amends regulations issued in 7 CFR subtitle B, Regulations of the Department of Agriculture, chapter I, Agricultural Marketing Service (Standards, Inspections, Marketing Practices), Department of Agriculture. This rule is issued under the Agricultural Marketing Act of 1946 (7 U.S.C. 1621-1627) and the Egg Products Inspection Act (21 U.S.C. 1031-1056), both as amended. This rule is also issued under 7 CFR parts 51 and 52, which establish grade standards and provide for inspection of certain fresh and processed fruits, vegetables, nuts, and specialty crops under the Agricultural Marketing Act of 1946.

This technical amendment redesignates and revises the heading of title 7, subtitle B, chapter I, subchapter C and of each subpart within 7 CFR parts 51 and 52 so that they are consistent with OFR requirements. The subparts were previously incorporated into 7 CFR parts 51 and 52 without assigned subpart letter designations. Further, some headings in subchapter C include the word “Regulations” in the title, which is inconsistent with OFR approved part and subpart headings, as each part under 7 CFR subtitle B represents a body of regulations.

For example, the heading of subchapter C, “Regulations and Standards under the Agricultural Marketing Act of 1946 and the Egg Products Inspection Act”, is considered redundant by the OFR in that it denotes regulations within a body of regulation. This rule amends subchapter C by revising the heading to read, “Requirements and Standards under the Agricultural Marketing Act of 1946 and the Egg Products Inspection Act.”

As a further example, the heading for 7 CFR part 51 currently includes two footnotes that might be considered regulatory in nature, which is inconsistent with OFR formatting. This rule amends part 51 by removing the footnotes and incorporating the information from the footnotes elsewhere in the part, as needed. The information in Footnote 1 is incorporated into § 51.2 and the information from Footnote 2 is incorporated into a new paragraph (c) to § 51.1.

Similarly, footnotes in subpart headings are removed where the text of the footnote is addressed in another provision of the subpart or part. Likewise, the note accompanying part 52 has been removed because the substance of that note is already in part 52, specifically § 52.57.

As a final example, the first subpart of part 51 is currently titled “Subpart—Regulations.” This rule redesignates the first subpart of part 51 and revises its title to read “Subpart A—Requirements.” This document makes similar redesignations and revisions to the other subparts in parts 51 and 52 to bring them into compliance with OFR requirements.

Additionally, 35 FR 6957, May 1, 1970 provided for a title change from U.S. Standards for Pears for Canning to U.S. Standards for Grades of Pears for Processing. This change has not been reflected in the subsequent Code of Federal Register publications but is recognized in this rule.

This final rule is administrative in nature and makes technical changes to CFR headings that will have no impact on the regulated industries. Accordingly, pursuant to 5 U.S.C. 553(b)(3)(B), notice of proposed rulemaking and opportunity for comment are unnecessary, and there is good cause to proceed with a final rule. Although there is no formal comment period, public comments on this rule are welcome on a continuing basis. Comments should be submitted to the address or email under the FOR FURTHER INFORMATION CONTACT section.

This rule falls within a category of regulatory actions that the Office of Management and Budget (OMB) exempted from Executive Order 12866 review. Additionally, because this rule does not meet the definition of a significant regulatory action, it does not trigger the requirements contained in Executive Order 13771. See OMB's Memorandum titled “Interim Guidance Implementing Section 2 of the Executive Order of January 30, 2017, titled `Reducing Regulation and Controlling Regulatory Costs'” (February 2, 2017).

This final rule has been reviewed in accordance with the requirements of Executive Order 13175, Consultation and Coordination with Indian Tribal Governments. The review reveals that this regulation would not have substantial and direct effects on Tribal Governments nor significant Tribal implications.

AMS is committed to complying with the E-Government Act to promote the use of the internet and other information technologies, to provide increased opportunities for citizen access to Government information and services, and for other purposes.

USDA has not identified any relevant Federal rules that duplicate, overlap, or conflict with this final rule.

List of Subjects

7 CFR Part 51

Food grades and standards, Fruits, Nuts, Reporting and recordkeeping requirements, Vegetables.

7 CFR Part 52

Food grades and standards, Food labeling, Frozen foods, Fruit juices, Fruits, Reporting and recordkeeping requirements, Vegetables.

For the reasons set forth in the preamble, and under the authority of 7 CFR 2.79, the Department of Agriculture amends 7 CFR chapter I as follows:

1. Revise the heading for subchapter C to read as follows:

SUBCHAPTER C—REQUIREMENTS AND STANDARDS UNDER THE AGRICULTURAL MARKETING ACT OF 1946 AND THE EGG PRODUCTS INSPECTION ACT

PART 51—FRESH FRUITS, VEGETABLES, AND OTHER PRODUCTS (INSPECTION, CERTIFICATION, AND STANDARDS)

2. The authority citation for part 51 continues to read as follows:

Authority: 7 U.S.C. 1621-1627.

3. Revise the heading for part 51 (including removal of the footnotes) to read as set forth above.

[Subpart Redesignated as Subpart A and Amended]

4. Redesignate “Subpart—Regulations” as subpart A and revise the heading (including removal of the footnote) to read as follows:

Subpart A—Requirements

5. Amend § 51.1 by revising the heading and adding paragraph (c) to read as follows:

§ 51.1 Administration of the regulations in this part.

* * * * *

(c) None of the requirements in this part shall excuse failure to comply with any Federal, State, county, or municipal laws applicable to products covered by the requirements in this part.

6. Amend § 51.2 by redesignating paragraphs (n) through (u) as paragraphs (o) through (v) and adding new paragraph (n) to read as follows:

§ 51.2 Terms defined.

* * * * *

(n) Other products. Among such other products are the following: Raw nuts, Christmas trees and evergreens; flowers and flower bulbs; and onion sets.

* * * * *

[Subpart Redesignated as Subpart B]

7. Redesignate “Subpart—United States Standards for Grades of Apples” as “Subpart B—United States Standards for Grades of Apples”.

[Subpart Redesignated as Subpart C]

8. Redesignate “Subpart—United States Standards for Grades of Apples for Processing” as “Subpart C—United States Standards for Grades of Apples for Processing”.

[Subpart Redesignated as Subpart D]

9. Redesignate “Subpart—United States Standards for Grades of Grapefruit (Texas and States Other Than Florida, California, and Arizona)” as “Subpart D—United States Standards for Grades of Grapefruit (Texas and States Other Than Florida, California, and Arizona)”.

[Subpart Redesignated as Subpart E]

10. Redesignate “Subpart—United States Standards for Grades of Oranges (Texas and States Other Than Florida, California, and Arizona)” as “Subpart E—United States Standards for Grades of Oranges (Texas and States Other Than Florida, California, and Arizona)”.

[Subpart Redesignated as Subpart F]

11. Redesignate “Subpart—United States Standards for Grades of Florida Grapefruit” as “Subpart F—United States Standards for Grades of Florida Grapefruit”.

[Subpart Redesignated as Subpart G and Amended]

12. Amend “Subpart—United States Standards for Grades of Table Grapes (European or Vinifera Type)” by removing the footnote and redesignating the subpart as “Subpart G—United States Standards for Grades of Table Grapes (European or Vinifera Type)”.

[Subpart Redesignated as Subpart H]

13. Redesignate “Subpart—United States Standards for Grades of Florida Oranges and Tangelos” as “Subpart H—United States Standards for Grades of Florida Oranges and Tangelos”.

[Subpart Redesignated as Subpart I]

14. Redesignate “Subpart—United States Standards for Cleaned Virginia Type Peanuts in the Shell” as “Subpart I—United States Standards for Cleaned Virginia Type Peanuts in the Shell”.

[Subpart Redesignated as Subpart J and Amended]

15. Amend “Subpart—United States Standards for Summer and Fall Pears” by removing the footnote and redesignating the subpart as “Subpart J—United States Standards for Summer and Fall Pears”.

[Subpart Redesignated as Subpart K and Amended]

16. Amend “Subpart—United States Standards for Winter Pears” by removing the footnote and redesignating the subpart as “Subpart K—United States Standards for Winter Pears”.

[Subpart Redesignated as Subpart L and Amended]

17. Redesignate “Subpart—United States Standards for Pears for Canning” as “Subpart L—United States Standards for Grades of Pears for Processing”.

[Subpart Redesignated as Subpart M]

18. Redesignate “Subpart—United States Standards for Grades of Pecans in the Shell” as “Subpart M—United States Standards for Grades of Pecans in the Shell”.

[Subpart Redesignated as Subpart N]

19. Redesignate “Subpart—United States Standards for Grades of Shelled Pecans” as “Subpart N—United States Standards for Grades of Shelled Pecans”.

[Subpart Redesignated as Subpart O]

20. Redesignate “Subpart—United States Standards for Grades of Fresh Plums and Prunes” as “Subpart O—United States Standards for Grades of Fresh Plums and Prunes”.

[Subpart Redesignated as Subpart P and Amended]

21. Amend “Subpart—United States Standards for Grades of Potatoes” by removing the footnote and redesignating the subpart as “Subpart P—United States Standards for Grades of Potatoes”.

[Subpart Redesignated as Subpart Q]

22. Redesignate “Subpart—United States Consumer Standards for Potatoes” as “Subpart Q—United States Consumer Standards for Potatoes”.

[Subpart Redesignated as Subpart R]

23. Redesignate “Subpart—United States Standards for Grades of Florida Tangerines” as “Subpart R—United States Standards for Grades of Florida Tangerines”.

[Subpart Redesignated as Subpart S and Amended]

24. Amend “Subpart—United States Standards for Fresh Tomatoes” by removing the footnote and redesignating the subpart as “Subpart S—United States Standards for Fresh Tomatoes”.

[Subpart Redesignated as Subpart T]

25. Redesignate “Subpart—United States Consumer Standards for Fresh Tomatoes” as “Subpart T—United States Consumer Standards for Fresh Tomatoes”.

[Subpart Redesignated as Subpart U and Amended]

26. Amend “Subpart—United States Standards for Grades of Filberts in the Shell” by removing the footnote and redesignating the subpart as “Subpart U—United States Standards for Grades of Filberts in the Shell”.

[Subpart Redesignated as Subpart V]

27. Redesignate “Subpart—United States Standards for Grades of Almonds in the Shell” as “Subpart V—United States Standards for Grades of Almonds in the Shell”.

[Subpart Redesignated as Subpart W]

28. Redesignate “Subpart—United States Standards for Grades of Shelled Almonds” as “Subpart W—United States Standards for Grades of Shelled Almonds”.

[Subpart Redesignated as Subpart X]

29. Redesignate “Subpart—United States Standards for Shelled English Walnuts (Juglans Regia)” as “Subpart X—United States Standards for Shelled English Walnuts (Juglans Regia)”.

[Subpart Redesignated as Subpart Y]

30. Redesignate “Subpart—United States Standards for Grades of Kiwifruit” as “Subpart Y—United States Standards for Grades of Kiwifruit”.

[Subpart Redesignated as Subpart Z]

31. Redesignate “Subpart—United States Standards for Grades of Pistachio Nuts in the Shell” as “Subpart Z—United States Standards for Grades of Pistachio Nuts in the Shell”.

[Subpart Redesignated as Subpart AA]

32. Redesignate “Subpart—United States Standards for Grades of Shelled Pistachio Nuts” as “Subpart AA—United States Standards for Grades of Shelled Pistachio Nuts”.

[Subpart Redesignated as Subpart BB and Amended]

33. Amend “Subpart—United States Standards for Grades for Sweet Cherries” by removing the footnote and redesignating the subpart as “Subpart BB—United States Standards for Grades for Sweet Cherries”.

[Subpart Redesignated as Subpart CC]

34. Redesignate “Subpart—United States Standards for Shelled Runner Type Peanuts” as “Subpart CC—United States Standards for Shelled Runner Type Peanuts”.

[Subpart Redesignated as Subpart DD]

35. Redesignate “Subpart—United States Standards for Grades of Shelled Spanish Type Peanuts” as “Subpart DD—United States Standards for Grades of Shelled Spanish Type Peanuts”.

[Subpart Redesignation as Subpart EE]

36. Redesignate “Subpart—United States Standards for Shelled Virginia Type Peanuts” as “Subpart EE—United States Standards for Shelled Virginia Type Peanuts”.

[Subpart Redesignated as Subpart FF]

37. Redesignate “Subpart—United States Standards for Grades of Onions (Other Than Bermuda-Granex-Grano and Creole Types)” as “Subpart FF—United States Standards for Grades of Onions (Other Than Bermuda-Granex-Grano and Creole Types)”.

[Subpart Redesignated as Subpart GG]

38. Redesignate “Subpart—United States Standards for Grades of Walnuts in the Shell” as “Subpart GG—United States Standards for Grades of Walnuts in the Shell”.

[Subpart Redesignated as Subpart HH]

39. Redesignate “Subpart—United States Standards for Florida Avocados” as “Subpart HH—United States Standards for Florida Avocados”.

[Subpart Redesignated as Subpart II]

40. Redesignate “Subpart—United States Standards for Grades of Bermuda-Granex-Grano Type Onions” as “Subpart II—United States Standards for Grades of Bermuda-Granex-Grano Type Onions”.

[Subpart Redesignated as Subpart JJ and Amended]

41. Amend “Subpart—United States Standards for Grades of Potatoes for Processing” by removing the footnote and redesignating the subpart as “Subpart JJ—United States Standards for Grades of Potatoes for Processing”.

PART 52—PROCESSED FRUITS AND VEGETABLES, PROCESSED PRODUCTS THEREOF, AND CERTAIN OTHER PROCESSED FOOD PRODUCTS

42. The authority citation for part 52 continues to read as follows:

Authority: 7 U.S.C. 1621-1627.

43. The heading for part 52 is revised (including removal of the footnote) to read as set forth above.

44. In part 52, remove the note preceding the authority citation.

[Subpart Redesignated as Subpart A and Amended]

45. Redesignate “Subpart—Regulations Governing Inspection and Certification” as subpart A and revise the heading to read as follows:

Subpart A—Requirements Governing Inspection and Certification

46. Amend § 52.2 by adding in alphabetical order the definition “Other processed food products” to read as follows:

§ 52.2 Terms defined.

* * * * *

Other processed food products. Among such other processed food products are the following: Honey; molasses, except for stockfeed; nuts and nut products, except oil; sugar (cane, beet, and maple); sirups (blended), sirups, except from grain; tea; cocoa; coffee; spices; condiments.

* * * * *

[Subpart Redesignated as Subpart B and Amended]

47. Amend “Subpart—United States Standards for Grades of Canned Red Tart Pitted Cherries” by removing the footnote and redesignating the subpart as “Subpart B—United States Standards for Grades of Canned Red Tart Pitted Cherries”.

[Subpart Redesignated as Subpart C]

48. Redesignate “Subpart—United States Standards for Grades of Frozen Red Tart Pitted Cherries” as “Subpart C—United States Standards for Grades of Frozen Red Tart Pitted Cherries”.

[Subpart Redesignated as Subpart D]

49. Redesignate “Subpart—United States Standards for Grades of Dates” as “Subpart D—United States Standards for Grades of Dates”.

[Subpart Redesignated as Subpart E and Amended]

50. Amend “Subpart—United States Standards for Grades of Processed Raisins” by removing the footnote and redesignating the subpart as “Subpart E—United States Standards for Grades of Processed Raisins”.

[Subpart Redesignated as Subpart F]

51. Redesignate “Subpart—United States Standards for Grades of Dried Prunes” as “Subpart F—United States Standards for Grades of Dried Prunes”.

[Subpart Redesignated as Subpart G and Amended]

52. Amend “Subpart—United States Standards for Grades of Canned Ripe Olives” by removing the footnote and redesignating the subpart as “Subpart G—United States Standards for Grades of Canned Ripe Olives”.

Bruce Summers,
Administrator, Agricultural Marketing Service.

[FR Doc. 2020-06616 Filed 4-6-20; 8:45 am]

BILLING CODE 3410-02-P